CONSUMER PRODUCT SAFETY COMMISSION

16 CFR Part 1210

Safety Standard for Cigarette Lighters; Adjusted Customs Value for Cigarette Lighters

AGENCY: Consumer Product Safety Commission.

ACTION: Final rule.

SUMMARY: The Commission's safety standard for disposable and novelty lighters includes specified requirements for child resistance. The standard defines “disposable lighters,” in part, as refillable lighters that use butane or similar fuels that have a Customs Value or ex-factory price below a threshold value (initially set at $2.00 in 1993). The standard provides that the initial $2.00 value adjusts every 5 years for inflation. This document revises the cigarette lighter standard to adjust the import value to $2.75.

DATES: The rule is effective December 3, 2018.

FOR FURTHER INFORMATION CONTACT: Julio Alvarado, Office of Compliance, Consumer Product Safety Commission, Washington, DC 20207; telephone (301) 504-7418; email: jalvarado@cpsc.gov.

SUPPLEMENTARY INFORMATION:

A. Background

In 1993, the Commission issued a standard requiring disposable and novelty lighters to meet certain requirements for child resistance. The standard, as originally written, defines “disposable lighters” as those that are either: (1) Non-refillable, or (2) use butane or similar fuels and have “a Customs Valuation or ex-factory price under $2.00, as adjusted every 5 years, to the nearest $0.25, in accordance with the percentage changes in the monthly Wholesale Price Index from June 1993.” ¹ 58 FR 37584 (July 12, 1993).

¹ The name of the Wholesale Price Index has changed to the Producer Price Index (PPI). The specific PPI that includes cigarette lighters is the PPI for “Miscellaneous Fabricated Products.”

The standard adjusts the $2.00 threshold in accordance with inflation, with the adjustment to be rounded to the nearest 25 cents. Adjustment did not occur in 1998 because the change in the PPI since June 1993 was not sufficient to warrant an adjustment. Adjustment did occur in 2003 (to $2.25). Accordingly, the Commission revised the cigarette standard to the adjusted amount. 69 FR 19763 (April 14, 2004). At that time, the reference to the Wholesale Price Index was also revised to refer instead to the Producer Price Index (PPI). No adjustment occurred in 2008. An adjustment occurred in 2013 (to $2.50) and the Commission revised the cigarette standard to reflect the adjusted amount. 78 FR 52679 (August 26, 2013).

CPSC staff has calculated the PPI for Miscellaneous Fabricated Products to have increased by approximately 36 percent from June 1993 to June 2018. Under 16 CFR 1210.2(b)(2)(ii), this increase in the PPI merits an adjustment in the Customs Value or ex-factory price to $2.75 as the threshold for determining whether refillable lighters are within the scope of the cigarette lighter standard. The increase in the PPI (from 124.7 in June 1993 to 169.5 in June 2018) of approximately 36 percent yielded an adjustment to $2.72 per lighter, which rounds to $2.75. Thus, refillable lighters with a Customs Value or ex-factory price under $2.75 are now subject to the standard.

As the cigarette lighter standard is written, the Customs Value or ex-factory price adjusts automatically based on the PPI, and no change in the language of the rule is required to implement this change. However, we are revising the standard so that the CFR will state the properly adjusted $2.75 [c]ustoms [v]alue, and the public will have notice of the adjustment.

B. The Administrative Procedures Act

Section 553(b)(3)(B) of the Administrative Procedure Act (APA) authorizes an agency to dispense with notice and comment procedures when the agency, for good cause, finds that those procedures are “impracticable, unnecessary, or contrary to the public interest.” This amendment informs the public of an adjustment to the cigarette lighter regulatory standard that has occurred automatically according to the terms of the cigarette lighter regulation. Because the adjustment occurs by terms of the regulation, the Commission could not alter the adjustment based on any public comments the Commission received. Accordingly, the Commission finds that notice and comment are unnecessary.

The APA also authorizes an agency, “for good cause found and published with the rule,” to dispense with the otherwise applicable requirement that a rule be published in the Federal Register at least 30 days before its effective date. 5 U.S.C. 553(d)(3). The Commission hereby finds that a 30-day delay of the effective date is unnecessary because this amendment informs the public of an adjustment that already has occurred in accordance with the existing regulatory requirements of the cigarette lighter standard.

List of Subjects in 16 CFR Part 1210

Cigarette lighters, Consumer protection, Fire prevention, Hazardous materials, Infants and children, Labeling, Packaging and containers, Reporting and recordkeeping requirements.

Accordingly, 16 CFR part 1210 is amended as follows:

PART 1210—SAFETY STANDARD FOR CIGARETTE LIGHTERS

1. The authority citation for part 1210 continues to read as follows:

Authority: 15 U.S.C. 2056, 2058, 2079(d).

2. Revise § 1210.2(b)(2)(ii) to read as follows:

§ 1210.2 Definitions.

* * * * *

(b) * * *

(2) * * *

(ii) It has a Customs Valuation or ex-factory price under $2.00, as adjusted every 5 years, to the nearest $0.25, in accordance with the percentage changes in the appropriate monthly Producer Price Index (Producer Price Index for Miscellaneous Fabricated Products) from June 1993. The adjusted figure, based on the change in that Index since June 1993, is $2.75.

* * * * *

Abioye E. Mosheim,
Acting Secretary, U.S. Consumer Product Safety Commission.

[FR Doc. 2018-26160 Filed 11-30-18; 8:45 am]

BILLING CODE 6355-01-P